NUCLEAR REGULATORY COMMISSION

Advisory Committee on the Medical Uses of Isotopes: Meeting Notice

AGENCY: U.S. Nuclear Regulatory Commission (NRC).

ACTION: Notice of meeting.

SUMMARY: NRC will convene a meeting of the Advisory Committee on the Medical Uses of Isotopes (ACMUI) on October 20-21, 2010. A sample of agenda items to be discussed during the public session includes: (1) A presentation from the Conference of Radiation Control Program Directors on a national medical events database; (2) a discussion on the Title 10 of the Code of Federal Regulations (CFR) part 35 medical event rule implementation plan; (3) updates on permanent prostate brachytherapy medical events that occurred at the Veteran's Affairs Medical Center in Philadelphia; (4) a subcommittee report on permanent implant brachytherapy; (5) a discussion of patients' rights advocate responsibilities; (6) a discussion on emerging technology and medical isotope production; (7) updates on 10 CFR part 37 Rule and Guidance; (8) discussion on the draft policy statement on protection of cesium chloride radiation sources; (9) a subcommittee report on the issue of patient release following administration of iodine-131; (10) a discussion on the potential changes to NRC's Radiation Protection Program; and (11) a discussion on medical-related events. A copy of the agenda will be available at http://www.nrc.gov/reading-rm/doc-collections/acmui/agenda or by e-mailing Ms. Ashley Cockerham at the contact information below.

Purpose: Discuss issues related to 10 CFR part 35 Medical Use of Byproduct Material.

Date and Time for Closed Session: October 20, 2010, from 8 a.m. to 9 a.m. and October 21, 2010, from 8 a.m. to 11 a.m. The first session will be closed so that ACMUI members can prepare for the Commission briefing. The second session will be closed so that ACMUI members can undergo NRC training, enroll for and activate new badges, and discuss ACMUI interactions with staff for major medical policy.

Date and Time for Open Sessions: October 20, 2010, from 9 a.m. to 5:30 p.m. and October 21, 2010, from 11 a.m. to 4:30 p.m.

Address for Public Meeting: U.S. Nuclear Regulatory Commission, Two White Flint North Building, Room T2-B3, 11545 Rockville Pike, Rockville, Maryland 20852.

Public Participation: Any member of the public who wishes to participate in the meeting in person or via phone should contact Ms. Cockerham using the information below. The meeting will also be webcast live: http://www.nrc.gov/public-involve/public-meetings/webcast-live.html.

Contact Information: Ashley M. Cockerham, e-mail: ashley.cockerham@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Cockerham at the contact information listed above. All submittals must be received by October 13, 2010, and must pertain to the topic on the agenda for the meeting.

2. Questions and comments from members of the public will be permitted during the meeting, at the discretion of the Chairman.

3. The draft transcript will be available on ACMUI's Web site (http://www.nrc.gov/reading-rm/doc-collections/acmui/tr/) on or about November 26, 2010. A meeting summary will be available on ACMUI's Web site (http://www.nrc.gov/reading-rm/doc-collections/acmui/meeting-summaries/) on or about December 6, 2010.

4. Persons who require special services, such as those for the hearing impaired, should notify Ms. Cockerham of their planned attendance.

This meeting will be held in accordance with the Atomic Energy Act of 1954, as amended (primarily Section 161a); the Federal Advisory Committee Act (5 U.S.C. App); and the Commission's regulations in 10 CFR part 7.

Dated at Rockville, Maryland, this 29th day of September 2010.
For the Nuclear Regulatory Commission.
Andrew L. Bates,
Advisory Committee Management Officer.

[FR Doc. 2010-24913 Filed 10-5-10; 8:45 am]

BILLING CODE P